DEPARTMENT OF AGRICULTURE

Forest Service

Ravalli County Resource Advisory Committee, Hamilton, MT; Meeting

A meeting of the Ravalli County Resource Advisory Committee will be held as follows:

TIME AND DATE: April 30, 2002, 6:30 p.m.

PLACE: Ravalli County Administration Building, 215 S. 4th Street, Hamilton, Montana.

STATUS: The meeting is open to the public

MATTERS TO BE CONSIDERED: Agenda topics will include Project evaluation and selection criteria, a presentation on the Bitterroot National Forest Noxious Weed Treatment Project DEIS, and a public forum (question and answer session). The meeting is being held pursuant to the authorities in the Federal Advisory Committee Act (Public Law 92-463) and under the Secure Rural Schools and Community Self-Determination Act of 2000 (Public Law 106-393)

CONTACT PERSON FOR MORE INFORMATION: Jeanne Higgins, Stevensville District Ranger and Designated Federal officer, Phone: (406) 777-5461.

Dated: April 4, 2002.
Lesley W. Thompson,
Acting Forest Supervisor.

[FR Doc. 02-8772 Filed 4-11-02; 8:45 am]

BILLING CODE 3410-11-M